DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: National Resource Center for Mental Health Promotion and Youth Violence Prevention—NEW

The Substance Abuse and Mental Health Services Administration's (SAMHSA) Center for Mental Health Services (CMHS) will conduct an annual assessment of the performance of the National Resource Center for Mental Health Promotion and Youth Violence Prevention (NRC). The NRC will collect the information needed to conduct the annual assessment of NRC training and technical assistance activities for the SS/HS and Project LAUNCH programs, as well as the field-at-large. There are four instruments included in this package for approval: (1) Needs Assessment, (2) Site Visit Assessment, (3) Annual Performance Assessment, and Case Study Interview. The NRC is required contractually to report its performance to SAMHSA on an annual basis.

Through a cooperative agreement, SAMHSA is funding the NRC to support the training and technical assistance (T/TA) needs of two SAMHSA grant programs: The Safe Schools/Healthy Students Program (SS/HS) and Project LAUNCH (Linking Actions for Unmet Needs in Children's Health). In addition, the NRC is funded to disseminate resources and provide technical assistance to the general field of mental health promotion and youth violence prevention. On an annual basis, this encompasses two needs assessment focus groups, 36 needs assessment surveys, 14 site visit assessment interviews, 42 site visit assessment surveys, 183 annual performance assessment surveys, and 55 case study interviews.

As a condition of its cooperative agreements with SS/HS and Project LAUNCH, the NRC is required to collect and report on its performance to SAMHSA on an annual basis, using measures that document its T/TA activities, its outputs, and changes in grantee capacity. For SAMHSA to meet its obligations under the Government Performance and Results Modernization Act of 2010 (GPRA), the NRC is also required to collect and report on three national outcome measures: (1) The number of individuals who have received training in prevention or mental health promotion; (2) the number and percent of individuals who have demonstrated improvement in their knowledge, attitudes, and/or beliefs, related to prevention or mental health promotion; and (3) the number of individuals contacted through NRC outreach requirements.

Data collection efforts will focus on two groups: (a) Project LAUNCH grantees (project directors) and their local community partners and (b) SS/HS grantees (state project coordinators) and their local education agency representatives. Assessment data will be collected through four methods: Annual grantee needs assessments, assessments of annual grantee site visits, an annual performance assessment survey, and annual case studies interviews of grantees and their local partners.

Needs assessment. For Project LAUNCH, a total of two focus groups of resource specialists (five per focus group), and 36 surveys (one per grantee) will be conducted annually to assess the annual training and technical assistance (T/TA) needs of grantees. The results will be reported in annual needs assessment reports, submitted to NRC leadership to support annual T/TA planning. Needs assessments are not planned for SS/HS grantees, because they are nearing the end of their grant cycle.

Site visit assessment. The CAT will gather information regarding the quality and impact of the NRC's T/TA site visits through interviews with seven SS/HS and seven Project LAUNCH grantees. We also conduct an online survey with up to 42 state or local partners of grantees (3 per grantee) who participated in the SS/HS or Project LAUNCH site visits. The results will be reported in grant-specific reports, submitted to NRC leadership to inform and improve NRC's T/TA approach with each grantee.

Annual performance assessment. This online performance assessment survey will survey seven SS/HS state project coordinators and 36 Project LAUNCH project directors and up to 140 state and local partners on an annual basis. Survey questions will focus on the content, dosage, and value of T/TA services provided over the previous year. The findings will be reported in annual performance assessment reports to the NRC and to SAMHSA for accountability and T/TA improvement purposes.

T/TA case studies. All seven SS/HS project directors and a purposive sample of four Project LAUNCH state project coordinators (11 total), as well as their assigned resource specialists (11 total) and three partners per grantee (33 total), will be interviewed by phone to learn more about specific ways in which the NRC has been instrumental in building grantee capacity over the last year. These new data will be combined with other collected data (such as the needs assessment findings and performance assessment survey data) to tell short, grantee-specific stories of how the combination of NRC services and contextual factors may have affected the choice and success of NRC efforts.

The average annual respondent burden for the proposed data collection is estimated below. The estimates reflect the average number of respondents, the average annual number of responses, the time it will take for each response, and the average annual burden.

Table 1—Estimated Annual Respondent Burden
Form name | Number of respondents | Responses per respondent | Total responses per year | Hours per response | Total annual hour burden
Needs Assessment Focus Groups | 10 | 1 | 10 | 1 | 10
Needs Assessment Surveys | 36 | 1 | 36 | .33 | 11.88
Site Visit Assessment Interview | 14 | 1 | 14 | .75 | 10.5
Site Visit Assessment Survey | 42 | 1 | 42 | .33 | 13.86
Annual Performance Survey | 183 | 1 | 183 | .5 | 91.5
Case Study Interview | 55 | 1 | 55 | .75 | 41.25
| 340 | 5 | 340 |  | 178.99
Note: Across the seven SS/HS grants, there are a total of 7 grantees (project directors) and 32 partners. There are a total of 39 respondents across the seven SS/HS grants. In FY 2016, there were 36 grants across Project LAUNCH. In addition to the PL state project coordinator, we will collect information from three partners: The young child wellness coordinator, the young child wellness expert, and the young child wellness partner. We assume that there will be seven SS/HS and seven Project LAUNCH site visits per year.

Written comments and recommendations concerning the proposed information collection should be sent by April 7, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-04489 Filed 3-7-17; 8:45 am]

BILLING CODE 4162-20-P